DEPARTMENT OF LABOR

Employment and Training Administration

Proposed Collection for ETA-9118 Non Production Questionnaire; Comment Request

AGENCY: Employment and Training Administration.

ACTION: Notice.

SUMMARY: The Department of Labor, as part of its continuing effort to reduce paperwork and respondent burden conducts a preclearance consultation program to provide the general public and federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning ETA-9118 Non Production Questionnaire.

A copy of the proposed information collection request (ICR) can be obtained by contacting the office listed below in the ADDRESSES section of this notice or by accessing: http://www.doleta.gov/OMBCN/OMBControlNumber.cfm.

DATES: Written comments must be submitted to the office listed in the ADDRESSES section below on or before May 13, 2008.

ADDRESSES: Submit written comments to Susan Worden, Employment and Training Administration, Office of National Response, 200 Constitution Avenue, NW., Washington, DC 20210, Attention: Susan Worden. Telephone number: 202-693-3517 (this is not a toll-free number). Fax: 202-693-3585. E-mail: worden.susan@dol.gov.

SUPPLEMENTARY INFORMATION:

I. Background

Sections 222, 223 and 249 of the Trade Act of 1974, as amended, require the Secretary of Labor to issue a determination for groups of workers as to their eligibility to apply for Trade Adjustment Assistance (TAA). After reviewing all of the information obtained for each petition for trade adjustment assistance filed with the Department, a determination is issued as to whether the statutory criteria for certification are met.

The information collected in ETA Form 9118 is used by the Secretary to specifically determine whether petitioning worker groups that perform a service are related to production of articles. If worker groups are related to production of articles, the form will request contact information so that sufficient article production and sales data may be collected from the appropriate contact to assess whether the production that service workers support is adversely affected by trade, and to adequately assess whether the group eligibility requirements detailed in Section 223 of the Trade Act of 1974, as amended, have been met.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Extension without change.

Agency: Employment and Training Administration.

Title: Non Production Questionnaire.

OMB Number: 1205-0447.

Affected Public: Individuals or households/business or other for-profit/not-for-profit institutions/farms/Federal Government/State, Local or Tribal Government.

Burden: 550 Responses × 3.5 hours = 1,925 hours.

Total Respondents: 550.

Frequency: On occasion.

Total Responses: 550.

Average Time per Response: 3.5 hours.

Estimated Total Burden Hours: 1,925.

Total Burden Cost (capital/startup): $0.

Total Burden Cost (operating/maintaining): $0.

Comments submitted in response to this notice will be summarized and/or included in the request for Office of Management and Budget approval of the information collection request; they will also become a matter of public record.

Dated: March 7, 2008.
Erin FitzGerald,
Acting Director, Division of Trade Adjustment Assistance, Employment and Training Administration.

[FR Doc. E8-5059 Filed 3-13-08; 8:45 am]

BILLING CODE 4510-FN-P